DEPARTMENT OF COMMERCE

National Oceanic and Atmospheric Administration; Notice of Intent To Prepare a Restoration Plan and Programmatic Environmental Impact Statement/Environmental Impact Report (RP/EIS); Request for Comments

AGENCY: National Oceanic and Atmospheric Administration (NOAA), Commerce.

SUMMARY: Natural Resource Trustee agencies (the Trustees) have formed the Montrose Settlements Restoration Program (MSRP) to plan and oversee the restoration of natural resources that have been injured by the release of hazardous substances, DDTs and PCBs, in the Southern California Bight marine environment. The MSRP will prepare a Restoration Plan and programmatic Environmental Impact Statement/ Environmental Impact Report (RP/EIS) addressing the restoration of these natural resources. The Trustees announce the initiation of a public process to determine the scope of issues under consideration. The purpose of this notice is to inform the public of this process and the opportunity to participate in the development of the RP/EIS. All persons affected by, or otherwise interested in, the proposed restoration plan are invited to participate in determining the scope of significant issues to be considered in the RP/EIS by submitting written comments or by attending scoping meetings. Through the scoping process, the Trustees will identify and prioritize alternatives for potential restoration actions.

DATES: Comments must be submitted in writing on or before November 24, 2001. Public meetings have been scheduled October 13, 2001, October 21, 2001, November 1, 2001. Details on these meetings are provided in the SUPPLEMENTARY INFORMATION section.

ADDRESSES: Comments should be submitted to: The Montrose Settlements Restoration Program, c/o NOAA's Office of General Counsel, 501 W. Ocean Boulevard, Suite 4470, Long Beach, California 90802. Alternatively, comments may be submitted electronically to the following E-mail address: msrp@noaa.gov. All comments received, including names and addresses, will become part of the public record.

FOR FURTHER INFORMATION CONTACT: Jennifer Boyce, Montrose Settlements Restoration Program c/o NOAA's Office of General Counsel 501 W. Ocean Boulevard, Suite 4470, Long Beach, California 90802, (562) 980-4086; or visit the MSRP web site at: www.darcnw.noaa.gov/montrose.htm.

SUPPLEMENTARY INFORMATION:

Background

During the period from the late 1940s to the early 1970s, Los Angeles area industries discharged and dumped thousands of tons of DDTs and PCBs into ocean waters off the Southern California coast. Almost all of the DDT originated from the Montrose Chemical Corporation's manufacturing plant in Torrance, CA, and was discharged into Los Angeles County sewers that empty into the Pacific Ocean at White Point, on the Palos Verdes shelf. Montrose also dumped hundreds of tons of DDT-contaminated waste into the ocean near Santa Catalina Island. Additionally, large quantities of PCBs (polychlorinated biphenyls) from numerous sources throughout the L.A. basin were released into ocean waters through the Los Angeles County sewer system. In 1992 and 1993, United States Geological Survey (USGS) surveys found that more than 100 metric tons (110 US tons) of DDTs and 10 metric tons (11 US tons) of PCBs remained in the sediments of the Palos Verdes Shelf.

In 1990, the U.S. Department of Justice (DOJ) and the California Attorney General filed a lawsuit under CERCLA, alleging that a number of defendants were responsible for releasing DDTs and PCBs and other hazardous substances into the environment. The lawsuit charged that the DDTs and PCBs injured natural resources, including fish and wildlife that live in and around coastal waters in Southern California.

The state and federal governments have settled the final remaining legal claims brought in 1990. A total of $140 million in damages have been paid under four separate settlement agreements. The majority of the settlement money will go to the U.S. EPA to reduce the exposure of people and wildlife to DDTs and PCBs. Approximately $30 million is available for natural resource restoration projects.

Injuries to Natural Resources

DDTs and PCBs are slow to break down and, therefore, bioaccumulate and become more concentrated in animals at higher levels in the food web. When feeding on prey contaminated with DDTs and PCBs, animals at the top of the food web, such as bald eagles and peregrine falcons, can accumulate injurious concentration of these chemicals. DDTs in particular cause these birds to produce eggs with shells that are so thin that they allow developing embryos to dry out, or they break when the adults sit on them during incubation.

Bald eagles were a resident breeding species on all of the California Channel Islands from before the turn of the century until at least the 1930's. The last confirmed nesting of an eagle on the Channel Islands was in 1947. By the early 1960s, bald eagles had disappeared from all of the Channel Islands.

The American peregrine falcon preys on birds of both aquatic and terrestrial ecosystems. As mentioned above, DDTs cause eggshell thinning in birds, including peregrines. This reduces the number of fledglings per nest, which eventually decreases the number of adults in the breeding population. Peregrines were relatively common throughout California in the early 1900s and were part of Native American history and culture. The peregrines declined dramatically in North America following the application of DDT beginning in the 1940s. In California, only two breeding pairs were found in 1970, where formerly there had been hundreds of known pairs. The Channel Islands population, which historically was 15-20 pairs, was eliminated between the mid-1940s and the early 1960s.

Many common sports fish in the L.A. area (approximately 50 species in eight groups) have levels of DDTs that exceed the State of California trigger level (0.1 ppm wet weight). A number of these sports fish also have concentrations of PCBs that exceed State of California trigger levels. Consequently, the State of California has issued health advisories warning to limit or avoid consumption of these fish at certain coastal locations of Los Angeles and Orange Counties. In addition, because of high levels of DDTs and PCBs in white croaker, the State has imposed bag limits for this fish and has banned commercial fishing for white croaker in the vicinity of the Palos Verdes Shelf.

By present estimates, DDTs and PCBs will continue to contaminate marine resources and birds in Southern California for decades. If instituted, clean up options under evaluation by the U.S. Environmental Protection Agency would reduce the severity of DDT and PCB contamination in the local ecosystem. At present, however, it appears not to be feasible to clean up all of the area contaminated with DDTs and PCBs, so some resources will continue to be injured.

Restoration Planning

The Comprehensive Environmental Response, Compensation, and Liability Act (CERCLA or “Superfund,” 42 U.S.C. 9601 et seq.) designates as possible natural resource trustees Federal, state, or tribal authorities who represent the public interest in natural resources. The trustees are responsible for recovering funds through litigation or settlement for damages for natural resource injuries. CERCLA requires that any recovered monies be used to “restore, replace, or acquire the equivalent of” the natural resources that have been injured by a release of a hazardous substance. The trustees are required to develop a restoration plan before settlement money can be spent on restoration projects. The Trustees include the: National Oceanic and Atmospheric Administration, Department of Commerce; U.S. Fish and Wildlife Service and National Park Service, U.S. Department of the Interior; California Department of Fish and Game; California State Lands Commission; and California Department of Parks and Recreation.

The restoration plan and programmatic environmental impact statement/environmental impact report (RP/EIS) will be prepared in accordance with the requirements of CERCLA, the National Environmental Policy Act, (NEPA, 42 U.S.C. 4321 et seq.) and the California Environmental Quality Act (CEQA, Pub. Res. Code sections 21000-21177.1). The Trustees' primary task is to determine how best to restore, replace, rehabilitate, or acquire the equivalent of the injured natural resources, and the Trustees are seeking the assistance of the public in this process. The Trustees must use the settlement monies to restore natural resources that were harmed by the DDTs and PCBs that were at issue in the Montrose litigation. By incorporating the public in the process and developing a formal restoration plan, there is a greater likelihood of success and acceptance.

The restoration planning process is aimed at developing a strategy for restoring habitats, species, and natural resource services that are lost or impaired as a result of the releases of DDTs and PCBs at issue in the Montrose litigation.

The draft RP/EIS will describe the restoration alternatives considered and identify a preferred restoration alternative. The RP/EIS will, among other things, include an analysis of the effects of each restoration alternative on the quality of the human environment, the relative effectiveness of alternative actions in achieving restoration goals using criteria developed for evaluating the alternatives, and the estimated costs of the alternatives.

The alternative projects will be described in the RP/EIS on a conceptual level since the plan is being prepared prior to the completion of detailed studies needed to design specific projects. At a later stage in the restoration process, after more detailed information is developed, public involvement will once again be sought through the preparation of supplemental environmental documentation and additional public comment periods.

Criteria

As required by CERCLA, restoration projects must be closely related to the lost or injured resources. The Trustees have compiled the following initial set of criteria for analyzing potential restoration projects for this case:

Nexus to Injured Resources—As described above, restoration efforts of the MSRP are directed at projects that restore, rehabilitate, replace, enhance or acquire the equivalent of the resources and services impacted by the release of DDTs and PCBs.

Feasibility—Based on past experience or studies, the restoration projects must be technically and procedurally sound.

No Duplicate or Replacement Funding—The Trustees will not fund projects that are already going to be funded or accomplished by other means or should be funded by more appropriate sources.

Legality—The projects must comply with all applicable laws.

Likelihood of Success—Projects will be evaluated for their potential for success, including the level of expected return of resources and resource services. Performance criteria of projects will have to be clear and measurable.

Cost Effectiveness—The projects will be evaluated by considering the relationship of expected project costs to the expected resource/service benefits from each project alternative.

Multiple Resource Benefits—Benefits can be increased if proposed projects benefit more than one natural resource or resource service.

Duration of Benefits—As described previously, contamination by DDTs and PCBs is expected to continue for decades. Long-term benefits are the objective of these projects, and the Trustees will evaluate project alternatives according to their expected duration of benefits.

Public Health and Safety—Possibility that a proposed alternative would create a threat to the health and safety of the public will be part of the evaluation process.

Likelihood of Adverse Impacts—Evaluation of projects will include examination of potential adverse impacts on the environment and the associated natural resources.

Opportunities for Collaboration—Cost effectiveness can be enhanced by matching funds, in-kind services, or volunteer assistance as well as coordination with on-going or proposed projects.

Proposals for alternative restoration concepts should attempt to meet these criteria. As part of the scoping process, newly proposed projects can be identified and incorporated into the restoration planning process provided that they meet legal requirements, technical feasibility and selection criteria.

Alternatives

Currently, the Trustees have identified six categories of restoration projects to be developed further in the draft RP/EIS. Through the scoping process, the Trustees are seeking public comment on these project concepts. The Trustees are also seeking input on any other categories of restoration projects not already included here that the public believes may fulfill the restoration objectives identified for this case.

The Trustees will evaluate whether each project proposed satisfies the fundamental requirement restoration actions must meet in the Montrose case, i.e. that they restore, replace, rehabilitate, and/or acquire the equivalent of the natural resources injured and services lost as a result of the DDTs and PCBs at issue in the Montrose litigation. (Natural resource “services” are the functions a resource performs for the benefit of another natural resource and/or for the benefit of the public.) The highest priority will go to projects that most directly and effectively restore the natural resources still being harmed by the DDTs and PCBs. Thus, the Trustees will focus restoration efforts on the bald eagles, peregrine falcons, and fishing resources still being affected by these contaminants. Projects that only indirectly address the injuries to these resources, or that address injuries to other resources that were not the focus of the government's case, will receive secondary priority.

The six categories of restoration projects identified at this point by the Trustees are:

1. Continued Reintroduction of Bald Eagles to Santa Catalina Island

In 1980, the U.S. Fish and Wildlife Service and the Institute for Wildlife Studies, with the cooperation of the California Department of Fish and Game and the Santa Catalina Island Conservancy, initiated a program to reintroduce bald eagles to Catalina Island. Between 1980 and 1986, 33 eagles were placed in three different artificial nest or hacking platforms on Catalina Island. The first eggs were laid in 1987, but broke soon after they were laid. Subsequent contaminant analysis of egg remains revealed DDE (a metabolite of DDT) levels sufficient to cause complete reproductive failure.

The trustees are currently developing a long-term restoration plan for the eagles on Catalina Island. Elements of this plan may include continued manipulation of eggs and chicks at each nest site and additional hacking of birds onto the island.

2. Expansion of Efforts To Reintroduce Bald Eagles to All the Northern Channel Islands

The Trustees are preparing to initiate a study to determine the feasibility of reintroducing bald eagles to other Channel Islands where they historically bred. The results of the feasibility study will be used by the Trustees to evaluate whether to proceed with a full-scale reintroduction program to additional islands in the Channel Islands National Park or other Channel Islands where they historically bred, and aid in the development of plans for such a program. Potential activities of this program would include releasing additional bald eagles with the hope to establish breeding sites on several of the Northern Channel Islands.

3. Restoration of Peregrine Falcons on the Channel Islands

The intent of this proposed restoration project would be to restore a stable and healthy population of peregrine falcons throughout the Channel Islands including the southern islands. The proposed restoration project would involve the reintroduction of additional birds to all of the Channel Islands. An intensive monitoring effort would also be included in the project to determine the success of the restoration effort and to document any future impacts due to pesticides on the recovering population.

4. Cleaner Fish for Anglers: Projects To Restore Fishing Injured by DDTs and PCBs

Since the Trustees do not have a way to entirely eliminate contamination of local sports fish, the Trustees are considering restoration projects that will, instead, increase the abundance and availability of cleaner fish at easily accessible fishing locations. In addition, these projects would displace highly contaminated fish, such as white croaker. These restoration projects will have to provide sustainable fishing for sizes and species of fish that would satisfy anglers' requirements for acceptable fishing.

One way to do this is to modify the habitats for fish at easily accessible locations for fishing, such as piers, jetties, and other nearshore locations. Surveys of fish in different habitats indicate that white croaker frequents sandy and muddy areas, but avoids rocky habitats. In contrast, less contaminated species of fish, such as rockfish, are most abundant in rocky areas, including kelp beds. The Trustees will examine the feasibility of placing rocky habitat, including kelp habitat, in sandy/muddy areas where anglers now catch large amounts of white croaker.

Examples of such projects are constructed reefs, which have been used widely and successfully to increase the local abundance of sports fish. There is some controversy as to whether constructed reefs actually increase the production and overall populations of fish or merely attract fish; however, studies have provided evidence that the production of fish on relatively large constructed reefs in Southern California is about nine times greater than on adjacent sand habitat. Regardless of whether providing more fish by production or attraction, constructed rocky habitat could serve the purpose of providing local anglers with a greater availability of cleaner fish.

Other methods, such as “fish aggregation devices” also exist to make desirable fish more available to anglers. The Trustees will examine and evaluate all available methods that would serve the double purpose of decreasing the availability of highly contaminated sports fish while also increasing the availability of clean sports fish.

As another measure to provide anglers access to cleaner fish, the Trustees may conduct long-term, multi-cultural education campaigns so anglers will have the information they need to choose the safest species of fish to eat and the best locations to catch these fish. Such activities would be conducted in close collaboration with other federal, state, and local agencies.

5. Wetlands and Estuarine Projects To Benefit Resources Injured in the Montrose Case

The Trustees will evaluate projects creating or enhancing habitats in estuaries and coastal wetlands as restoration to address the injuries caused by DDTs and PCBs in the Montrose case.

Coastal wetlands and estuarine habitats are spawning grounds and nurseries for certain sports fish, and they produce sources of food that contribute to the productivity of coastal sports fish populations. Coastal wetlands and estuaries may also benefit the injured populations of bald eagles and peregrine falcons by increasing productivity of potential prey species.

Coastal wetlands in Southern California have been extensively destroyed and degraded; consequently, there is a widespread and well-documented need for creating and improving wetlands to benefit the larger coastal ecosystem. However, the benefits provided by wetlands and estuaries restoration projects vary among sites and depend on many factors. The Trustees' evaluation of such projects will focus on the extent to which they can directly and effectively provide cleaner fish to local anglers and cleaner or more abundant prey for local bald eagles and peregrine falcons.

6. Seabird Projects

As stated above, the Montrose litigation and settlements were focused on those injuries that appeared to be continuing. The Trustees recognize that a variety of other species such as brown pelicans and double-crested cormorants were severely affected by DDT in the past. Substantial seabird populations occur in the Southern California Bight, including breeding and non-breeding birds.

Since these populations have declined from historical numbers, they provide an opportunity for restoration projects. Efforts to enhance the populations of marine birds in the SCB could also benefit reintroduced bald eagles and peregrine falcons by providing prey that may contain lower contaminant levels than other food sources such as carcasses of marine mammals. The Trustees may explore methods to enhance the populations of seabirds through the development of innovative restoration concepts, such as reducing anthropogenic impacts and other factors that adversely affect the seabirds' survival.

These project concepts are described in further detail in a public scoping document issued on August 24, 2001 by the trustees to inform the public of the restoration planning process and to seek input from affected individuals and groups. The scoping document may be obtained from the MSRP web site (www.darcnw.noaa.gov/montrose/htm), or by a copy may be requested by calling (866) 795-7786 or by sending an e-mail request to msrp@noaa.gov.

Public Scoping Meetings

The Trustees have scheduled three public meetings in the fall of 2001. Comments will be received at these meetings and throughout the scoping period. The scoping meetings are scheduled as follows:

1. Saturday, October 13, 2001, 3:30 p.m.-6:30 p.m., Channel Islands National Park Headquarters, 1901 Spinnaker Drive, Ventura, CA.

2. Sunday, October 21, 2001, 10:00 a.m.-6:00 p.m., Cabrillo Sea Fair event, Cabrillo Aquarium, 3720 Stephen White Drive, San Pedro, CA—The Trustees will sponsor an information booth and be available to answer questions.

3. Thursday, November 1, 2001, 7:00 p.m. -9:00 p.m., Ken Edwards Center, 1527 Fourth Street, Santa Monica, CA.

The purpose of these meetings will be to introduce the public to the MSRP staff and Trustee Council, define the Trustees' role and responsibilities, explain what restoration means and the legal requirements that must be followed. Additionally, the Trustees will present the restoration goals, objectives, and project selection criteria for this case, and describe the restoration alternatives the Trustees plan to develop in the RP/EIS. The Trustees will take comments from the public on the factors they would like addressed concerning the restoration alternatives presented, as well as taking comments on other restoration alternatives the public would like the Trustees to consider.

Administrative Record

The Trustees have made available for public review the documents comprising the Administrative Record (Record) of the Montrose Settlements Restoration Program. The Record includes documents that the Trustees have relied upon during the development of the RP/EIS, and that form the basis for determining a restoration action under CERCLA and NEPA. Documents now in the Record include a copy of this notice, the MSRP fact sheet, the scoping document, and consent decrees. Other documents will be added as the restoration process progresses.

The Record is available for viewing at NOAA's Office of General Counsel for Natural Resources, located at: 501 West Ocean Blvd, Suite 4700, Long Beach, CA 90802 The repository is open from 9:00 to 5:00 Monday through Friday, except for Federal holidays. Arrangements may be made to the review the Record by contacting Kolleen Bannon at 501 W. Ocean Blvd., suite 4470, Long Beach, CA 90802 or by calling her at 562-980-4078.

How To Submit Comments

Pursuant to NEPA, 42 U.S.C. 4321 et seq., CERCLA, 42 U.S.C. 9601 et seq., and CEQA, Pub. Res. Code sections 21000-21177.1, the Trustees seek public involvement in determining the scope of significant issues to be considered in the RP/EIS. Comments should be sent to the Montrose Settlements Restoration Program, NOAA, Suite 4470, 501 W. Ocean Blvd., Long Beach, CA 90803, (866) 795-7786. Comments also may be submitted by e-mail to msrp.noaa.gov. Comments should be received on or before November 24, 2001.

Authority: 42 U.S.C. 4321 et seq. and 9601 et. seq.

Dated: October 1, 2001.
Alan Neuschatz,
Chief Financial Officer/Chief Administrative Officer.

[FR Doc. 01-25135 Filed 10-5-01; 8:45 am]

BILLING CODE 3510-JE-P